ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Tuesday and Wednesday, January 12-13, 2016 at the times and location listed below.

DATES: The schedule of events is as follows:

Tuesday, January 12, 2016

10:30-11:30 p.m. Technical Programs Committee

11:30-Noon Planning and Evaluation Committee

1:30-2:00 p.m. Ad Hoc Committee on Design Guidance

2:00-2:30 Budget Committee

2:30-4:00 Ad Hoc Committee on Information and Communication Technology (Closed)

Wednesday, January 13, 2016

9:30-11:00 a.m. Ad Hoc Committee on Frontier Issues

11:00-Noon Architectural Barriers Act Compliance Program

1:30-3:00 Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, January 13, 2016, the Access Board will consider the following agenda items:

• Approval of the draft November 10, 2015 meeting minutes (vote)

• Ad Hoc Committee Reports: Design Guidance; Frontier Issues; and Information and Communication Technology

• Budget Committee

• Technical Programs Committee

• Planning and Evaluation Committee

• Election Assistance Commission Report

• Executive Director's Report

• Public Comment (final 15 minutes of the meeting)

Members of the public can provide comments either in-person or over the telephone during the final 15 minutes of the Board meeting on Wednesday, January 13, 2016. Any individual interested in providing comment is asked to pre-register by sending an email to bunales@access-board.gov with the subject line “Access Board meeting—Public Comment” with your name, organization, state, and topic of comment included in the body of your email. All emails to register for public comment must be received by Wednesday, January 6, 2016. Commenters will be called on in the order by which they pre-registered. Due to time constraints, each commenter is limited to two minutes. Commenters on the telephone will be in a listen-only capacity until they are called on. Use the following call-in number: (877) 701-1628; passcode: 4900 0109 and dial in 5 minutes before the meeting begins at 1:30 p.m.

All meetings are accessible to persons with disabilities. An assistive listening system, Communication Access Realtime Translation (CART), and sign language interpreters will be available at the Board meeting and committee meetings.

Persons attending Board meetings are requested to refrain from using perfume, cologne, and other fragrances for the comfort of other participants (see www.access-board.gov/the-board/policies/fragrance-free-environment for more information).

You may view the Wednesday, January 13, 2016 meeting through a live webcast from 1:30 p.m. to 3:00 p.m. at: www.access-board.gov/webcast.

David M. Capozzi,
Executive Director.

[FR Doc. 2015-31403 Filed 12-11-15; 8:45 am]

BILLING CODE 8150-01-P